DEPARTMENT OF HEALTH AND HUMAN SERVICES

National Biodefense Science Board; Notification of Charter Renewal

AGENCY: Department of Health and Human Services, Office of the Secretary.

ACTION: National Biodefense Science Board; Notification of charter renewal.

SUMMARY: The Secretary of Health and Human Services has renewed the National Biodefense Science Board (NBSB) charter for an additional two-year period through July 3, 2011.

SUPPLEMENTAL INFORMATION: As stipulated by the Federal Advisory Committee Act (FACA), 5 U.S.C. App. 2 Section 9(c), the U.S. Department of Health and Human Services is hereby giving notice of the renewal of the NBSB charter for an additional two-year period. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

FOR FURTHER INFORMATION CONTACT: CAPT Leigh A. Sawyer, D.V.M., M.P.H., Executive Director, National Biodefense Science Board, Office of the Assistant Secretary for Preparedness and Response, U.S. Department of Health and Human Services, 330 C Street, SW., Switzer Building Room 5127, Washington, DC 20447; 202-205-3815; fax: 202-205-8508; e-mail address: leigh.sawyer@hhs.gov.

Dated: July 23, 2009.
Nicole Lurie,
Assistant Secretary for Preparedness and Response, U.S. Department of Health and Human Services.

[FR Doc. E9-18375 Filed 7-30-09; 8:45 am]

BILLING CODE 4150-37-P